DEPARTMENT OF COMMERCE

National Institute of Standards and Technology

Jointly Owned Invention Available for Licensing

AGENCY: National Institute of Standards and Technology, Commerce.

ACTION: Notice of jointly owned invention available for licensing.

SUMMARY: The invention listed below is owned in part by the U.S. Government, as represented by the Department of Commerce. The Department of Commerce's interest in the invention is available for licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Mary Clague, Building 820, Room 213, Gaithersburg, MD 20899. Information is also available via telephone: 301-975-4188, e-mail: mclague@nist.gov, or fax: 301-869-2751. Any request for information should include the NIST Docket number and title for the relevant invention as indicated below.

SUPPLEMENTARY INFORMATION: NIST may enter into a Cooperative Research and Development Agreement (“CRADA”) with the licensee to perform further research on the invention for purposes of commercialization. The invention available for licensing is:

[Docket No.: 98-020US]

Title: Ultrasonic Strain Gage Using a Motorized Electromagnetic Acoustic Transducer (EMAT).

Abstract: The invention was made jointly by scientists from NIST and the University of Colorado. The invention is jointly owned by the U.S. Government, as represented by the Secretary of Commerce, and the University of Colorado. The U.S. Government's interest is available for licensing. The invention comprises an ultrasonic strain gage using an electromagnetic acoustic transducer (EMAT). Stress causes a rotation of the pure-mode polarization directions of SH-waves and a change in the phase of waves polarized along these certain directions. The device comprises a rotating small-aperture EMAT, connected to a processor, to measure phase and amplitude data as a function of angle. The EMAT is placed on a work piece at the location where the stress is to be measured. The acoustic birefringence Beta is determined from the normalized difference of these phases. From these data, an algorithm calculates values of Beta and Phi. The work piece is then stressed or its stress state is changed. The values are measured again at the same location. Stress is determined from the change in Beta and Phi.

Dated: May 1, 2003.
Karen H. Brown,
Deputy Director.

[FR Doc. 03-11362 Filed 5-6-03; 8:45 am]

BILLING CODE 3510-13-P